DEPARTMENT OF HEALTH AND HUMAN SERVICES

Administration for Children and Families

Technical Assistance to ORR-Funded Refugee Programs and Services for Asylees

AGENCY: Office of Refugee Resettlement (ORR), ACF, DHHS.

ACTION: Notice of availability of FY 2003 discretionary funds for technical assistance in seven categories of programs that assist refugees and one grant for services for asylees.

CFDA Number: The Catalog of Federal Domestic Assistance number for this program is 93.576.

SUMMARY: ORR invites eligible entities to submit competitive applications for cooperative agreements to provide technical assistance to agencies that serve in the following first seven program areas. For Program Area 8, ORR invites eligible applicants to submit applications for a grant to provide services via a Multilingual Information, Referral, and Registration Hotline.

Program Area 1—Technical Assistance for refugee-based Mutual Aid Associations (MAAs), Voluntary Agencies assisting or working with refugee community organizations and other program areas that the Director of ORR may consider as appropriate response to emerging refugee resettlement needs;

Program Area 2—Technical Assistance for Employment Services;

Program Area 3—Technical Assistance for English Language Training and Service Programs;

Program Area 4—Technical Assistance for Refugee Economic Development Activities/Programs;

Program Area 5—Technical Assistance to Enhance Child Welfare Services for Refugee Communities;

Program Area 6—Technical Assistance to Promote Refugee Housing Opportunities;

Program Area 7—Technical Assistance for Crime Prevention Programs; and

Program Area 8—Services for Asylees to be provided via a Multilingual Information, Referral and Registration Hotline.

Applications will be screened and evaluated as indicated in this program announcement. Awards will be contingent on the outcome of the competition and the availability of funds.

Applications will be accepted pursuant to the ORR Director's discretionary authority under section 412(c) of the Immigration and Nationality Act (INA) (8 U.S.C. 1522), as amended.

DATES: The closing date for submission of applications is September 8, 2003. Applications received 30 days after the publication date are considered to be late. See Part IV of this announcement for more information on submitting applications.

Announcement Availability: The program announcement and the application materials are available from Mitiku Ashebir, Office of Refugee Resettlement (ORR), 370 L'Enfant Promenade, SW., 8th Fl., Washington, DC 20447 and from ORR Web site at http://www.acf.hhs.gov/programs/orr.

FOR FURTHER INFORMATION CONTACT: Mitiku Ashebir, Division of Community Resettlement (DCR), ORR, Administration for Children and Families (ACF), (202) 205-3602; fax (202) 401-0981; e-mail: mashebir@acf.hhs.gov or Daphne Weeden, Office of Grants Management (OGM), (ACF), (202) 401-4577; e-mail: paqueries-OGM@acf.hhs.gov.

Application Information: This program announcement consists of four parts:

Part I: Background—Legislative authority, funding availability, applicant eligibility, project and budget periods, length of application, and for each of the nine program areas: Purpose and scope, allowable activities, and review criteria.

Part II: General instructions for preparing a full project description.

Part III: The Review Process—Intergovernmental review, initial ACF screening and competitive review.

Part IV: Application Submission—Application materials, application development, application submission information, certifications, assurances and reporting.

Paperwork Reduction Act of 1995 (Pub. L. 104-13): The public reporting burden for this collection of information is estimated to average 8 hours per response, including the time for reviewing instructions, gathering and maintaining the data needed and reviewing the collection of information. Information collection is included in the following program announcement: OMB control No. 0970-0139, ACF UNIFORM PROJECT DESCRIPTION (UPD) attached as appendix A, which expires 12/31/03. An agency may not conduct or sponsor and a person is not required to respond to, a collection of information unless it displays a currently valid OMB control number.

Part I: Background

In recent years, ORR has supported the work of its grantees and other agencies serving refugees in various program areas through several technical assistance grants with organizations uniquely qualified to advance the refugee service field, improve program achievement, develop organizational capacity, and improve overall performance. ORR has supported specific technical assistance for employment, English language training, microenterprise, Individual Development Account programs, housing, capacity development activities among emerging ethnic organizations, and services to children, the elderly and asylees. ORR's intent is to assist grantees to provide the best technical help for continuous improvement in refugee programs in the form of capacity building to adequately serve refugees, and to bring about positive development and impact on the lives of refugees and asylees.

Legislative Authority—This program is authorized by section 412(c)(1)(A) of the Immigration and Nationality Act (INA)(8 U.S.C. 1522 (c)(1)(A)), as amended, authorizing the Director to make grants to, and enter into contracts with public or private non-profit agencies to achieve the following goals. The technical assistance projects and the services for asylees must be designed “(i) to assist refugees in obtaining the skills that are necessary for economic self-sufficiency, including projects for job training, employment services, day care, professional refresher training, and other re-certification services; (ii) to provide training in English where necessary (regardless of whether the refugees are employed or receiving cash or other assistance) and (iii) to provide where specific needs have been shown and recognized by the Director, health, (including mental health) services, social services, educational, and other services.” The Department of Health and Human Services Appropriations Act, 2003, title II of division G of the Consolidated Appropriation Resolution FY 2003, Public Law 108-7, appropriates funds for refugee and entrant assistance activities authorized by these provisions of the INA.

Funding Availability—ORR expects to make available approximately $3 million in social services discretionary funds in eight program areas, seven cooperative agreements and one grant. The award amount range is for planning purposes. Applications with requested amounts that exceed the upper value of the dollar range specified will still be considered for review. No matching or cost sharing by the applicant is required.

Applicant Eligibility—Eligible applicants for all program areas are public and private non-profit organizations. Faith-based and community organizations are eligible to apply for these funds. Any non-profit organization submitting an application must submit proof of its non-profit status at the time of submission. The non-profit agency can accomplish this by providing a copy of the applicant's listing in the Internal Revenue service's (IRS) most recent list of tax-exempt organizations described in Section 501(c)(3) of the IRS code, or by providing a copy of the currently valid IRS tax exemption certificate, or by providing a copy of articles of incorporation bearing the seal of the State in which the corporation or association is domiciled, or by providing a certified copy of the organizations certificate of incorporation or similar document that clearly establishes non-profit status, or any of the items above for a state or national parent organization and a statement signed by the parent organization that the applicant organization is a local non-profit affiliate. Private, non-profit organizations are encouraged to submit with their applications the optional survey located under “Grant Manuals & forms” at http://www.acf.hhs.gov/programs/ofs/forms.htm.

Project and Budget Periods—This announcement invites applications for project periods for up to 3 years. Awards, on a competitive basis, will be for a one-year budget period, although project periods may be for 3 years. Applications for continuation of grants under these awards beyond the one-year budget period, but within the 3-year project period, will be entertained in subsequent years on a noncompetitive basis. Any continuation is subject to the availability of funds, satisfactory progress of the grantee and a determination that continued funding would be in the best interest of the Government.

Length of Application: Applicants must limit program narratives to 25 pages per program area (double-spaced on standard, letter-size paper, in 12-point font) plus no more than 25 pages of appended material. This limitation of 25 pages per program area should be considered as a maximum, and not necessarily a goal.

Program Area 1—Technical Assistance in the Area of Organizational and Capacity Building for Refugee-Based Mutual Aid Associations (MAAs), Voluntary Agencies Assisting or Working With Refugee Community Organizations and Other Areas That the Director of ORR Considers an Appropriate Response to Emerging Refugee Resettlement Needs

Purpose and Scope

The Office of Refugee Resettlement (ORR) proposes to award one cooperative agreement to assist in the development of a project to provide technical assistance to MAAs, faith-based and community organizations, and other entities assisting refugees. Through this award, ORR intends for this grantee to provide technical planning and assistance to MAA grantees, Voluntary Agencies and other refugee service providers working with refugee community organizations for multiple purposes: (1) To strengthen organizational capacity; (2) to acquire functional governance and organizational stability; and (3) to conduct appropriate personnel, program, and financial management by sharing proper organizational policies, structures, procedures, and materials through a grantee network. ORR envisions that the assistance in this category will improve services to refugees and enhance grantees' collaboration on performance measures in critical service areas that are designed to facilitate and promote refugee self-sufficiency and economic independence.

ORR's intent is also to equip technical assistance providers with the best technical help possible so that MAAs and other entities serving refugees can be better trained to address the social and economic developments that may impact on how well refugees progress in their resettlement in the U.S. Thus, ORR also intends to provide technical guidance to organizations serving refugees concerning emerging refugee issues in resettlement in an effort to promote continuous improvement in refugee programs. These areas will include projects to provide services to newly arrived refugees.

Approximately $500,000 has been allocated for this program area. ORR expects to award one cooperative agreement. The successful applicant will have demonstrated expertise in organizational and community development activities along with experience and flexibility in being able to respond to such particular characteristics and needs of ethnic organizations and other service areas as may be determined by ORR. These needs may be manifested as functions of the organizational development processes or occur due to major internal and/or external changes that are recognized as critical to the proper functioning of community organizations.

Through this cooperative agreement, the grantee will submit a technical assistance plan for refugee-based MAAs, Voluntary Agencies assisting refugee community organizations and other program areas that the Director of ORR may consider as appropriate response to emerging refugee resettlement needs that includes at least the following: (1) Proposed site visits and corresponding technical assistance activities; (2) written materials developed and proposed for dissemination to the field; (3) proposed workshop locations, topics, presentation formats, and agendas; and (4) methods and approaches of identifying, documenting, presenting and addressing emerging refugee needs. ORR intends to review and approve the grantee's technical assistance plan in these areas and other activities proposed by the grantee in relation to the allowable activities listed below. ORR will also provide direction concerning any emerging refugee needs that should be addressed under this technical assistance.

Allowable Activities

Applicants may propose all or some combination of the following, as well as other innovative strategies justifying their usefulness for technical assistance in the designated technical assistance area:

—Assessing technical assistance and training needs in community organizations and other ORR grantees;

—Disseminating information, materials, and technical advice related to employment, community orientation, effective case management, program and financial management, and leadership development, and roles of boards, agency executives, and agency staff and organization members;

—Collecting and summarizing data and information on program performance;

—Facilitating the electronic exchange of information through a network website and listserve; and through the collection and reporting of program performance, performance measurement, and impact information;

—Providing on-site training or technical assistance group meetings and workshops;

—Developing training curricula, a resource handbook, and other resource materials as needed;

—Conducting on-site program reviews of MAA grantees and training workshops as needed and appropriate;

—Preparing and disseminating reports on the program characteristics and achievements;

—Maintaining a database of characteristics and achievements of the programs; and

—Identifying and disseminating potential resources, partnership opportunities, and community initiatives.

—Preparing adequate and appropriate responses to emerging refugee resettlement needs.

Review Criteria—MAAs and Emerging Refugee Resettlement Needs

1. Organizational Profiles. The capacity of the applicant to achieve the project's objectives is clearly demonstrated. Organizational expertise, and experience in the provision of technical assistance and information sharing to assist small and emerging organizations, as well as relatively developed community organizations, is appropriate for the proposed project. (30 points)

2. Approach. The technical assistance plan is clearly described and appropriate, and the proposed activities and time frames are reasonable. The technical assistance plan describes clearly and in detail the manner in which the applicant will assess the need for technical assistance, the proposed activities, and how the proposed activities are expected to address known technical assistance needs of refugee community-based organizations. (20 points)

3. Staff and Position Data. Staff qualifications are clearly presented and are appropriate to achieving the project's objectives. The description of staff qualifications demonstrates experience in providing technical assistance to ethnic and other organizations involved in refugee self-help organizing and support. (20 points)

4. Results or Benefits Expected. The results or benefits expected are clearly explained and are appropriate to the technical assistance activities proposed. (15 points)

5. Budget and Budget Justification. The budget is clearly presented and is detailed, reasonable, and cost effective. (15 points).

Program Area 2—Technical Assistance for Employment Services

Purpose and Scope

The primary goal of refugee resettlement is to assist refugees in becoming self-sufficient. Two factors critical to achieving this goal are gainful attachment to the labor force and the opportunity to earn a living wage. ORR proposes to award one cooperative agreement to assist an agency in developing a project to provide technical assistance services to ORR employment service providers to increase the rate and improve the quality of employment outcomes and to address the special needs of emerging populations.

This announcement continues ORR's longstanding recognition that assistance should be provided to improve the technical assistance services that must be provided to refugee employment service providers. The technical assistance in this category aims to identify best models and practices, and broadly disseminate this information to assist local programs in implementing performance measures under the Government Performance and Results Act (GPRA). This objective can be achieved by developing and conducting training and on-site reviews and performing on-site analysis of employment services in such areas as staff training, multi-agency collaboration, employer and/or refugee involvement in the design of services, and in the organization and administration of job development and placement projects.

Approximately $300,000 has been allocated for this program area. One cooperative agreement may be awarded for one national project. Through this cooperative agreement, the grantee will submit a plan the following: (1) Proposed site visits and technical assistance activities and schedules; (2) plan for written materials developed prior to the release of such documents; and (3) proposed workshop schedules, locations, topics, presentation formats, and agendas. ORR intends to review and approve the grantee's plan for technical assistance in these areas and other activities proposed by the grantee in relation to the allowable activities listed below. ORR will also provide direction and feedback in critical refugee employment needs and corresponding technical assistance services.

Allowable Activities

Applicants may propose all or a combination of the activities described below, or new or innovative approaches justifying their usefulness to providing technical assistance for employment services.

—Institution and implementation of on-site visits to assess technical assistance needs, to provide technical assistance and training directly to agencies, and to ascertain best practices in providing employment services resulting in living wages and employment benefits;

—Development of diverse reports to be distributed to agencies to assist them in providing employment services, including site visit reports and best practices reports;

—Organization and operation of workshops for agencies in the area of employment services, which include facilitated discussions, training, and presentations addressing a breadth of employment needs for newly emerging refugee populations, newly employed refugee groups, and skilled and professional refugees to the extent possible;

—Provision of technical assistance in writing, by e-mail and by telephone, to agencies; and

—Preparation and dissemination of reports on program characteristics and achievements.

Review Criteria—Employment Services

1. Organizational Profiles. The capacity of the applicant to achieve the project's objectives is clearly demonstrated. Organizational expertise and experience in the provision of technical assistance that is tuned to the changing dynamics of the job market and the changes in the characteristics of incoming refugee populations is well described and is appropriate and adequate for the proposed project. (30 points)

2. Approach. The technical assistance plan is clearly described and appropriate, and the proposed activities and time frames are reasonable. The technical assistance plan describes clearly and in detail the manner in which the applicant will assess the need for technical assistance, the proposed activities, and how the proposed activities are expected to address refugee employment technical assistance needs. (20 points)

3. Staff and Position Data. Staff qualifications are clearly presented and are appropriate to achieving the project's objectives. The description of staff qualifications demonstrates experience in providing technical assistance to agencies and groups involved in refugee employment. (20 points)

4. Results or Benefits Expected. The results or benefits expected are clearly explained and are appropriate to the technical assistance activities proposed. (15 points)

5. Budget and Budget Justification. The budget is clearly presented and is detailed, reasonable, and cost effective. (15 points)

Program Area 3—Technical Assistance to English Language Training Providers

Purpose and Scope

The Office of Refugee Resettlement (ORR) proposes to award one cooperative agreement in the amount of $300,000 to assist in the development of a project to provide technical assistance and training to providers of English Language Training (ELT) at all levels. Technical assistance may be proposed for the following purposes:

• Design and improvement of employment-related ELT technical assistance and training which may be provided both to ELT teachers and program managers. The technical assistance and training may be focused on curricula, teaching strategies, and/or program development such as integrating ELT with employment-focused services, work-site ELT, and family literacy.

• Training in the areas of cultural adjustment, learning disabilities, physical and mental health, and in the use of new or innovative classroom technologies. Training may include topics such as identifying cultural adjustment/learning disabilities physical and mental health issues, accommodating such issues in the classroom, seeking professional consultation, and developing appropriate curricula. Training may also include introducing teachers to new and/or innovative ELT technologies, such as using software programs in classroom instruction. Technical assistance may be provided in the organization and administration of the language programs.

• Organization and facilitation of consultative and information-sharing sessions. Such sessions may include staff from similar types of agencies or from agencies serving similar groups of refugees. The purpose of the sessions is to provide an opportunity for ELT staff to share experiences. These sessions may also provide opportunities for different types of staff including ELT teachers, case managers, employment specialists, public health professionals, and individual refugee English tutors, to develop strategies for effective working relationships.

• Response to emerging needs of refugee populations. This technical assistance area involves preparing lessons and designing methodologies compatible with emerging refugee needs, particularly where the refugee populations not only have little exposure to English language and the American culture, but may not be literate in their own languages.

Applicants should propose technical assistance projects that are to be implemented nationally. Through this cooperative agreement, the grantee will submit a technical assistance plan for English Language Training that includes at least the following: (1) Program activity sites and participants; (2) assessment tools to be used to evaluate technical assistance needs; (3) technical assistance subject areas and curricula that will be used; (4) materials prepared for use in the delivery of the technical assistance; and (5) mechanisms to maximize volunteerism in English language training. ORR intends to review and approve the technical assistance plan for English Language Training in these areas and other activities proposed by the grantee in relation to the allowable activities listed below. ORR will also evaluate the technical assistance plan to ensure that it is comprehensive, flexible, and practical and provide direction and feedback for the appropriate implementation of the plan.

Allowable Activities

Applicants may propose all or a combination of the activities described below or additional innovative approaches justifying their usefulness for technical assistance for ELT providers.

—Assessment of ELT technical assistance needs in agencies and communities serving refugees;

—Organization and operation of training and facilitated sessions on identified ELT technical assistance needs. These sessions may include for a single agency, multi-site, or multi-project ELT facilitated discussions;

—Provision of technical assistance in writing, by e-mail and by telephone, to ELT providers and volunteers conducting one-to-one or group English tutorial sessions;

—Review of existing general ELT materials and recommendations on usefulness and appropriateness for use in refugee-oriented ELT with necessary modifications and to suit particular needs of various refugee groups, and reparation and distribution of materials relevant to identified ELT needs;

—Development of, or participation in, development of ELT curricula to effect employment and facilitate other refugee resettlement processes; and

—Facilitation of information sharing among a network of ELT providers in the improvement of English skills among refugees.

Review Criteria—English Language Training

1. Organizational Profiles. The capacity of the applicant to achieve the project's objectives is clearly demonstrated. Organizational expertise and experience in the provision of technical assistance and information sharing to English training service providers assisting refugees. (30 points)

2. Approach. The technical assistance plan is clearly described and appropriate, and the proposed activities and time frames are reasonable. The technical assistance plan describes clearly and in detail the manner in which the applicant will assess the need for technical assistance, the proposed activities, and how the proposed activities are expected to address known English language skills needs of various refugee groups. (20 points)

3. Staff and Position Data. Staff qualifications are clearly presented and are appropriate to achieving the project's objectives. The description of staff qualifications demonstrates experience in providing technical assistance to ELT instructors and service providers. (20 points)

4. Results or Benefits Expected. The results or benefits expected are clearly explained and are appropriate to the technical assistance activities proposed. (15 points)

5. Budget and Budget Justification. The budget is clearly presented and is detailed, reasonable, and cost effective. (15 points)

Program Area 4—Technical Assistance for Economic Development Programs

Purpose and Scope

ORR invites eligible entities to submit competing applications for a cooperative agreement to develop a project to provide technical assistance for economic development services for refugeesincluding Individual Development Account programs, Microenterprise development programs, and special self sufficiency and employment initiatives. Under this cooperative agreement, the grantee will implement various activities intended to assist ORR-funded IDA and Microenterprise grantees in the organization and administration of their projects. The grantee may also provide similar technical assistance to special self-sufficiency and employment grantees and to any other types of economic development grantees as designated by the Director of ORR.

Approximately $500,000 has been allocated for this program area. Through this cooperative agreement, the grantee will submit a technical assistance plan for economic development programs that includes the following: (1) Site visits and technical assistance activities; (2) written materials developed prior to the release of such documents; (3) locations of proposed workshops, topics, formats, and agendas; and (4) the maintenance and facilitation of database and reporting mechanisms. ORR intends to review and approve a technical assistance plan for economic development activities in these areas and other activities that are proposed by the grantee related to the allowable activities listed below. ORR will also carefully evaluate the implementation of the technical assistance plan by providing direction and feedback to ensure the effective administration of microenterprise and IDA programs and the proper utilization of technologies compatible with IDA, Microenterprise and other economic development activities.

Allowable Activities

Allowable activities include:

—Institution and implementation of on-site visits to assess technical assistance needs, provide technical assistance and training directly to grantees, and to ascertain best practices in administering IDA, Microenterprise, and other types of economic development programs, and to address the specific needs of refugees participating in these and related programs;

—Preparation of a variety of reports to be distributed to IDA, Microenterprise, and other economic development grantees to assist them in administering their programs, including site visit reports and best practices reports;

—Organization and operation of workshops for IDA, Microenterprise, and other grantees that have economic development programs for refugees. Workshop activities include facilitated discussions, presentations, and training in economic development and self-sufficiency activities;

—Provision of technical assistance in writing, by e-mail and by telephone, to IDA and Microenterprise grantees;

—Facilitation of a network of IDA and Microenterprise grantees to share information and to resolve problems, through, for example, the maintenance of a listserve, conference calls, etc.; and

—Maintenance of a database of characteristics and achievements of IDA, Microenterprise, and other economic development grantees and preparation and dissemination of program characteristics and achievements.

Applicants may propose additional techniques justifying their usefulness for providing technical assistance and information sharing activities to IDA, Microenterprise, and other economic development grantees.

Review Criteria—Economic Development

Proposed projects to provide technical assistance and information-sharing activities to Individual Development Account, Microenterprise and other economic development activities will be evaluated according to the following criteria:

1. Approach. The technical assistance plan is clearly described and appropriate. The proposed activities and timeframes are reasonable, feasible and reflective of the spread and variety of ORR-supported refugee economic development activities. The plan describes in detail how the proposed activities will be accomplished. (30 points)

2. Staff and Position Data. Staff qualifications are clearly presented and are appropriate to achieving the project's goals. Staff qualifications show experience in providing technical assistance and information-sharing activities in the areas of administering financial, economic development and self-sufficiency programs. (20 points)

3. Organization Profiles. The applicant demonstrates the capacity to achieve the project's objectives. Organizational expertise and experience in the provision of technical assistance and information-sharing activities in refugee economic development areas are fully and clearly described. (20 points)

4. Results or Benefits Expected. The results or benefits expected are clearly explained and are appropriate to the technical assistance activities proposed. (15 points)

5. Budget and Budget Justification. The budget is reasonable, cost-effective and clearly presented. (15 points)

Program Area 5—Technical Assistance for Child Welfare Services for Refugee Families and Communities

Purpose and Scope

The state of well-being of refugee families is an important contributing factor to family self-sufficiency and their initial resettlement. ORR proposes to award one cooperative agreement to assist in the development of a technical assistance project to help public and private agencies in promoting collaboration among refugee communities, the network of refugee resettlement services, and children and youth services including child protective services, to promote the well-being of children in refugee families.

Refugee families residing in U.S. communities may encounter significant differences in child rearing practices compared to the ethnic or national customs of their country of origin, due to the following or related reasons: (1) Traditional cultures with strict parental roles may frequently conflict with the more egalitarian American family, resulting, for example, in differences in refugee youths' desire for early independence; (2) refugee families may experience trauma as a result of the persecution or flight, the effects of which may be destabilizing to family life; (3) refugee families may need income from both parents, unlike the practice in their home country, to adequately provide for their needs; (4) single refugee parent families face similar stresses that U.S. single parent families face in addition to the trauma from their refugee experiences; and (5) refugees may end up living in low-income neighborhoods with high crime rates and without the benefit of an ethnic community to provide information, guidance, and support.

Due to these factors and others, refugee families may encounter child protective services and other agencies of the judicial system. These experiences may not be easily understood by the refugee communities. As a result, refugee communities may become insecure and/or distrusting of the U.S. child welfare and child protective systems. This distrust or insecurity may result in difficulties for refugee families in their effort to establish homes that promote the well-being of the family members and where parents are secure in their role of providing a nurturing and educational environment for their children. These issues may also force children to face conflicts in meeting the expectations of their parents, fitting in with their peers, and developing a sense of belonging in their schools and social groups.

It has become clear over time that a productive relationship with child welfare services, child protective services, youth shelters, and other youth transitional and recreational services may be needed to promote refugee families' capacity to care for their children and/or youth in their new communities.

ORR is interested in supporting a national technical assistance cooperative agreement to promote collaboration among refugee families, refugee service providers and the children and youth service agencies that promote the welfare of refugee families, refugee youth, and children. This cooperative agreement is also intended to promote cultural and linguistic services or access to services for refugee families. Approximately $500,000 has been allocated for this program area.

Through this cooperative agreement, the grantee will submit a technical assistance plan for child welfare services for refugee families and communities that include the following: (1) Site visit locations and schedules; (2) written materials proposed for dissemination to the field; (3) workshop locations, topics, formats and agendas; and (4) technical support intended to strengthen the content and the delivery of the technical assistance being provided. ORR intends to review and approve technical assistance plan for child welfare services for refugee families and communities in these areas and other activities proposed by the grantee related to the allowable activities listed below. ORR will also provide direction and feedback in implementation of the critical elements of the technical assistance activities approved under this plan.

Allowable Activities

Applicants may propose all or some combination of the following, as well as other innovative strategies justifying their usefulness for technical assistance for the designated area:

—Provision of technical assistance to refugee communities, refugee service providers, school systems, school counselors, and refugee youth clubs, and child welfare and youth services agencies both in writing and through telephone consultation;

—Facilitating the electronic exchange of refugee child welfare information through a network website and listserve;

—Providing on-site group training or technical assistance meetings and workshops, drawing on positive traditions and community strengths to the extent practical;

—Promoting refugee families as foster parents;

—Identifying and disseminating youth coping skills in schools, communities and among families with deliberate focus on ORR funded youth and family related projects;

—Locating or developing training curricula and materials;

—Conducting on-site reviews of refugee child welfare services; and

—Providing technical assistance regarding guardianship to Unaccompanied Refugee Minor programs and service providers assisting children eligible for ORR services.

Review Criteria—Refugee Child Welfare Services

1. Organizational Profiles. The capacity of the applicant to achieve the project's objectives is clearly demonstrated. Organizational expertise and experience in the provision of technical assistance and information sharing to assist parents and organizations in enhancing and promoting the well-being of refugee children and youth. (30 points)

2. Approach. The technical assistance plan is clearly described and appropriate, and the proposed activities and time frames are reasonable. The technical assistance plan describes clearly and in detail the manner in which the applicant will assess the need for technical assistance, the proposed activities, and how the proposed activities are expected to address known technical assistance needs of organizations and individuals caring for refugee children and youth. (20 points)

3. Staff and Position Data. Staff qualifications are clearly presented and are appropriate to achieving the project's objectives. The description of staff qualifications demonstrates experience in providing technical assistance to organizations and individuals assisting and caring for refugee children and youth. (20 points)

4. Results or Benefits Expected. The results or benefits expected are clearly explained and are appropriate to the technical assistance activities proposed. (15 points)

5. Budget and Budget Justification. The budget is clearly presented and is detailed, reasonable, and cost effective. (15 points)

Program Area 6—Technical Assistance to Promote Refugee Housing Opportunities

Purpose and Scope

The primary goal of refugee resettlement is to assist refugees in becoming self-sufficient. One factor critical to achieving this goal is access to affordable and decent housing. ORR proposes to award one cooperative agreement to assist an agency in the development of a project that will provide technical assistance to ORR service providers in the provision of this essential service.

This program area is intended to assist both service providers and refugees in gaining access to affordable and decent housing for refugee individuals and families. In most urban areas throughout the U.S. where the majority of refugees are resettled, rent levels are being pushed to record highs and there is a dwindling supply of affordable and decent housing. In many areas, rents are increasing faster than wages and recent energy price hikes have exacerbated an already critical situation. There is a need to assist resettlement agencies in developing innovative approaches to the housing crises to enable refugees to live as well-informed consumers in safe and affordable homes in desirable communities.

A grantee in this category will provide technical planning and assistance to promote refugee access to housing that meets acceptable standards for health, safety, affordability, good repair, and maintenance.

Approximately $200,000 has been allocated for this program area. One cooperative agreement may be awarded for one national project to promote refugee housing. Through this cooperative agreement, the grantee will submit a technical assistance plan to promote refugee housing opportunities that includes the following: (1) Proposed site visits and technical assistance activities and schedules; (2) all written materials developed prior to the release of such documents; (3) proposed workshop locations, topics, formats, and agendas; and (4) technical assistance plan to assist IDA grantees implementing IDA programs with housing components. ORR intends to review and approve a housing technical assistance plan in these areas and other activities proposed by the grantee in relation to the allowable activities listed below. ORR will also provide direction and feedback in addressing problems associated with refugee impacted areas and most affected refugee groups such as the elderly.

Allowable Activities

Applicants may propose all or a combination of the activities described below or new and innovative approaches justifying their usefulness to providing technical assistance in the area of housing assistance and services.

—Assesses housing needs across the nation and selects and prioritizes affected areas; plans for on-site visits to provide technical assistance to agencies, and identify best practices in providing services for counseling refugees about housing;

—Provision of information to agencies on relevant available services and programs in the area of public housing assistance, including programs designed for low-income first time home buyers;

—Research of housing regulations and provisions for the elderly, low-income families, large families and people with disabilities. Identifying and disseminating information on possible collaboration among public and private for profit and non-profit housing developers and providers;

—Preparation of a variety of reports to be distributed to agencies to assist them in providing housing services, including site visit reports and best practices reports;

—Organization and operation of workshops for agencies in the area of housing services, to include such subjects as effective use of assistance provided by HUD and other local assistance programs as available;

—Assistance in developing collaborative housing agreements and arrangements with employers, non-profit agencies, landlords, and other Federal and State agency programs;

—Training of case workers in orienting refugees to be responsible tenants including timely payment of rent, maintenance of apartments, building good credit, and negotiating with landlords;

—Exploring, developing, and promoting links between Individual Development Account programs, small businesses and other refugee economic activities to expand refugees' ability to rent or purchase homes and provide technical assistance to IDA grantees; and

—Provision of technical assistance to agencies in writing, by e-mail and by telephone.

Review Criteria—Refugee Housing Services

1. Organizational Profiles. The capacity of the applicant to achieve the project's objectives is clearly demonstrated. Organizational expertise and experience in the provision of technical assistance and information sharing to refugee resettlement agencies and other non-profit and for profit organizations concerned with affordable housing for low income and needy families. (30 points)

2. Approach. The technical assistance plan is clearly described and appropriate, and the proposed activities and time frames are reasonable. The technical assistance plan describes clearly and in detail the manner in which the applicant will assess the need for technical assistance, the proposed activities, and how the proposed activities are expected to address known housing technical assistance needs in resettling refugees. (20 points)

3. Staff and Position Data. Staff qualifications are clearly presented and are appropriate to achieving the project's objectives. The description of staff qualifications demonstrates experience in providing technical assistance to agencies that assist refugees with their housing needs. (20 points)

4. Results or Benefits Expected. The results or benefits expected are clearly explained and are appropriate to the technical assistance activities proposed. (15 points)

5. Budget and Budget Justification. The budget is clearly presented and is detailed, reasonable, and cost effective. (15 points)

Program Area 7—Technical Assistance for Crime Prevention and Safety Programs for Refugee Communities

Purpose and Scope

The Office of Refugee Resettlement (ORR) proposes to award one cooperative agreement for the purpose of developing a project to provide integrated crime prevention technical assistance to refugee service providers, law enforcement entities, volunteers, refugee groups and communities that fosters partnerships among entities involved in building safe and crime-free communities where refugees live. Lack of awareness of the laws and practices of their new country that may result in crime or conflict with law enforcement is likely to slow or prevent the processes of refugee adjustment and/or efforts to achieve early self-sufficiency. ORR envisions that the technical assistance in this category will address a range of risk factors including family violence, social isolation, drugs, alcohol, as well as traditional child-rearing practices, spouse roles, and relationships of refugee families that may conflict with the laws and practices of the U.S. This technical assistance aims at reducing or eliminating crime and victimization among refugees, positively contributing to their safety and self-sufficiency, and supports the development of refugee youth training in leadership skills and conflict management.

Approximately $400,000 has been allocated for this program area. One cooperative agreement will be awarded for one national project. The successful applicant will have demonstrated expertise in planning and executing an integrated technical assistance plan to prevent criminal activities among refugee communities and demonstrated experience and flexibility in responding to the particular characteristics and needs of different ethnic and age groups.

Through this cooperative agreement, the grantee will submit a technical assistance plan for crime prevention and safety programs for refugee communities in the following areas: (1) Technical assistance and training curricula; (2) community outreach activity; (3) written training and informational materials developed and proposed for dissemination to the field; and (4) proposed workshops locations, topics, schedules, presentation formats, and agendas that cover a wide range of ethnic and refugee age groups. ORR intends to review and approve a technical assistance plan in these areas and other activities related to the allowable activities listed below. ORR will also provide direction and feedback to the grantee to ensure the proper implementation of the crime prevention and safety activities.

Allowable Activities

Applicants may propose all or some combination of the following, as well as other innovative strategies justifying their usefulness for technical assistance in the designated area:

—Assessing crime prevention technical assistance and training needs and sharing outreach techniques with various refugee communities and age groups.

—Promoting positive relationships between refugee communities and the criminal justice system.

—Disseminating information materials and technical advice related to crime prevention using models and best practices that work to reduce or eliminate crime and victimization among refugees;

—Collecting and summarizing data and information on program performance for ORR-funded programs that focus on crime prevention and related preventive and educational programs;

—Facilitating the electronic exchange of information through a website or listserve, and the collection and reporting of program activities, training and program impact information;

—Conducting group training or technical assistance meetings and workshops;

—Developing training curricula and outreach techniques to vulnerable groups and other supportive materials;

—Conducting on-site program reviews where appropriate;

—Maintaining a database of characteristics, noting trends and documenting achievements of crime prevention efforts; and

—Identifying and disseminating potential crime prevention resources, partnership opportunities, relevant research results, literature and possible community initiatives addressing refugee community risk elements.

Review Criteria—Crime Prevention and Safety

1. Organizational Profiles. The capacity of the applicant to achieve the project's objectives is clearly demonstrated. Organizational expertise and experience in the provision of technical assistance and information sharing to assist refugee communities in their efforts to prevent crime and resolve conflicts. (30 points)

2. Approach. The technical assistance plan is clearly described and appropriate, and the proposed activities and time frames are reasonable. The technical assistance plan describes clearly and in detail the manner in which the applicant will assess the need for technical assistance, the proposed activities, and how the proposed activities are expected to address known legal and crime issues in refugee communities. (20 points)

3. Staff and Position Data. Staff qualifications are clearly presented and are appropriate to achieving the project's objectives. The description of staff qualifications demonstrates experience in providing technical assistance in crime prevention in refugee communities. (20 points)

4. Results or Benefits Expected. The results or benefits expected are clearly explained and are appropriate to the technical assistance activities proposed. (15 points)

5. Budget and Budget Justification. The budget is clearly presented and is detailed, reasonable, and cost effective. (15 points)

Program Area 8—Services for Asylees via a Multilingual Information and Referral Hotline

Purpose and Scope

The Office of Refugee Resettlement (ORR) proposes to award a grant for the purpose of operating an asylee information and referral toll-free hotline. The purpose of this hotline is to assist asylees by providing them access to information on services in their respective communities and States. An extensive language bank capacity with all major language groups is required for hotline operators to communicate with asylees. ORR has an agreement with the asylum offices of the Department of Homeland Security (DHS) to include in the text of letters granting asylum a toll-free number and information needed to access the refugee service network.

ORR is currently seeking a similar agreement with immigration courts under the Executive Office for Immigration Review (EOIR) to have similar information provided in letters granting asylum. Additional outreach efforts should also be conducted to expand enrollment of asylees in refugee programs and services.

Approximately $300,000 has been allocated for this program area. One grant may be awarded for one national project. The successful applicant should demonstrate expertise in planning and executing an integrated technical assistance plan of information and referral to assist asylees to access the ORR-funded refugee service network via a multilingual toll-free hotline number.

Through this grant, ORR will review and approve a service plan for asylees that includes: (1) Technical equipment required for a multilingual toll-free number; (2) accurate and up to date informational materials in a number of languages developed and proposed for dissemination to the field via the hotline; (3) the multilingual staff phone operators to man the hotline; and (4) an ability to assess and address problems with asylee access to local refugee services.

Allowable Activities

Applicants should propose all of the following activities.

Applicants are encouraged to propose additional innovative strategies providing justifications for their usefulness in the designated service area.

—Maintain a 1-800 asylee information and referral number with multiple selections for each major refugee language (minimum of seven languages);

—Create and update the script and protocol guidelines for hotline operators;

—Develop and maintain information in a multitude of languages on services and eligibility requirements to access the refugee service provider network including State-funded services and services provided through Voluntary Agency affiliates, particularly the Matching Grant program for persons with newly awarded grants of asylum;

—Maintain a database of characteristics, noting trends of languages needed, location of callers, ethnicity/country of origin of asylees, difference in time between date of grant of asylum and call to the hotline, and type of information sought through the phone calls; and

—Collect and summarize data and information on callers to the asylee hotline for ORR funded programs as appropriate.

Review Criteria “ Multilingual Hotline

1. Organizational Profiles. The capacity of the applicant to achieve the project's objectives is clearly demonstrated. Organizational expertise and experience in the provision of services and information sharing to assist asylees in accessing appropriate services. (30 points)

2. Approach. The service plan is clearly described and appropriate, and the proposed activities and time frames are reasonable. The service plan clearly and fully describes how the applicant will assess the need for services, the scope of proposed activities, and how the proposed activities are expected to address known service needs of asylees. (20 points)

3. Staff and Position Data. Staff qualifications are clearly presented and are appropriate to achieving the project's objectives. The description of staff qualifications clearly demonstrates applicable experiences needed to assist asylees. (20 points)

4. Results or Benefits Expected. The results or benefits expected are clearly explained and are appropriate to the activities proposed. (15 points)

5. Budget and Budget Justification. The budget is clearly presented and is detailed, reasonable, and cost effective. (15 points)

Part II: General Instructions for Preparing a Full Project Description

Purpose and Introduction

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions

ACF is particularly interested in specific factual information and statements of measurable goals in quantitative terms. Project descriptions are evaluated on the basis of substance, not length. Extensive exhibits are not required. Cross-referencing by identifying the page number of the information should be used rather than repetition. Supporting information concerning activities that will not be directly funded by the grant or information that does not directly pertain to an integral part of the grant-funded activity should be placed in an appendix. Pages should be numbered and a table of contents should be included for easy reference.

Applicants shall prepare the project description statement in accordance with the following instructions and the specified evaluation criteria. The instructions give a broad overview of what the project description should include while the evaluation criteria expands and clarifies more program-specific information that is needed.

Project Summary/Abstract

Provide a summary of the project description (a page or less) with reference to the funding request.

Objectives and Need for Assistance

Clearly identify the physical, economic, social, financial, institutional, and/or other problem(s) requiring solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. For example, applicants can describe the number of programs to which technical assistance is provided, the number of workshops to be conducted, and for the hotlines, the number of asylees to receive information and number and type of referrals to appropriate services. When accomplishments cannot be quantified by activity or function, events should be chronologically listed to show the schedule of accomplishments and their target dates.

Approach

Outline a plan of action that describes the scope and detail of how the proposed work will be accomplished. Provide quantitative monthly or quarterly projections of the accomplishments to be achieved for each function or activity in such terms as the number of people or organizations to be served and the number of activities to be accomplished. Account for all functions or activities identified in the application. Cite factors that might accelerate or decelerate the work and state your reason for taking the proposed approach rather than others. Describe any unusual features of the project such as design or technological innovations, reductions in cost or time, or extraordinary social and community involvement.

If any data is to be collected, maintained, and/or disseminated, clearance may be required from the U.S. Office of Management and Budget (OMB). This clearance pertains to any “collection of information that is conducted or sponsored by ACF.”

List organizations, cooperating entities, consultants, or other key individuals that will work on the project along with a short description of the nature of their effort or contribution.

Additional Information

Following are requests for additional information that need to be included in the application:

Staff and Position Data

Provide a biographical sketch for each key person appointed and a job description for each vacant key position. A biographical sketch will also be required for new key staff as appointed.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with federal/state/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Dissemination Plan

Provide a plan for distributing reports and other project outputs to colleagues and the public. Applicants must provide a description of the kind, volume and timing of distribution.

Third-Party Agreements

Include written agreements between grantees and sub-grantees or subcontractors or other cooperating entities. These agreements must detail scope of work to be performed, work schedules, remuneration, and other terms and conditions that structure or define the relationship.

Letters of Support

Provide statements from community, public and commercial leaders that support the project proposed for funding. All submissions should be included in the application or received by application deadline.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

General

The following guidelines are for preparing the budget and budget justification. Both Federal and non-Federal resources shall be detailed and justified in the budget and narrative justification. For purposes of preparing the budget and budget justification, “Federal resources” refers only to the ACF grant for which you are applying. Non-Federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), and annual salary, grant salary, wage rates, etc. Do not include the costs of consultants or personnel costs of delegate agencies or of specific project(s) or businesses to be financed by the applicant.

Fringe Benefits

Description: Costs of employee fringe benefits unless treated as part of an approved indirect cost rate.

Justification: Provide a breakdown of the amounts and percentages that comprise fringe benefit costs such as health insurance, FICA, retirement insurance, taxes, etc.

Travel

Description: Costs of project-related travel by employees of the applicant organization (does not include costs of consultant travel).

Justification: For each trip, show the total number of traveler(s), travel destination, duration of trip, per diem, mileage allowances, if privately owned vehicles will be used, and other transportation costs and subsistence allowances. Travel costs for key staff to attend ACF-sponsored workshops should be detailed in the budget.

Equipment

Description: “Equipment” means an article of non-expendable, tangible personal property having a useful life of more than one year and an acquisition cost which equals or exceeds the lesser of (a) the capitalization level established by the organization for the financial statement purposes, or (b) $5,000. (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.)

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the Equipment category.

Justification: Specify general categories of supplies and their costs. Show computations and provide other information that supports the amount requested.

Contractual

Description: Costs of all contracts for services and goods except for those which belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and sub-recipients, other than States that are required to use Part 92 procedures, must justify any anticipated procurement action that is expected to be awarded without competition and exceed the simplified acquisition threshold fixed at 41 U.S.C. 403(11) (currently set at $100,000). Recipients might be required to make available to ACF pre-award review and procurement documents, such as request for proposals or invitations for bids, independent cost estimates, etc.

Applicant that delegate part of the project to another agency must provide budget narrative along with supporting information for the delegated agency.

Other

Enter the total of all other costs. Such costs, where applicable and appropriate, may include but are not limited to insurance, food, medical and dental costs (non-contractual), professional services costs, space and equipment rentals, printing and publication, computer use, training costs, such as tuition and stipends, staff development costs, and administrative costs.

Justification: Provide computations, a narrative description and a justification for each cost under this category.

Indirect Charges

Description: Total amount of indirect costs. This category should be used only when the applicant has currently approved an indirect cost rate by the Department of Health and Human Services (HHS) or another cognizant Federal agency.

Justification: An applicant that will charge indirect costs to the grant must enclose a copy of the current approved rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgement that the applicant is accepting a lower rate than allowed.

Program Income

Description: The estimated amount of income, if any, expected to be generated from this project.

Justification: Describe the nature, source and anticipated use of program income in the budget or refer to the pages in the application which contain this information.

Nonfederal Resources

Description: Amounts of non-Federal resources that will be used to support the project as identified in Block 15 of the SF-424.

Justification: The firm commitment of these resources must be documented and submitted with the application in order to be given credit in the review process. A detailed budget must be prepared for each funding source.

Total Direct Charges, Total Indirect Charges, Total Project Costs

The total direct, total indirect as well as the total project costs should be clearly indicated.

Part III: The Review Process

Intergovernmental Review: State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs. Note: State/Territory participation in the intergovernmental review process does not signify applicant eligibility for financial assistance under a program. A potential applicant must meet the eligibility requirements of the program for which it is applying prior to submitting an application to its SPOC, if applicable, or to ACF.

In accordance with Executive Order #12372, “Intergovernmental Review of Federal Programs,” this listing represents the designated State Single Points of Contact. The jurisdictions not listed, no longer participate in the process. But grant applicants are still eligible to apply for the grant even if your state, territory, commonwealth, etc. does not have a “State Single Point of Contact.” jurisdictions without “state single points of contacts” include: Alabama; Alaska; Arizona; Colorado; Connecticut; Indiana; Hawaii; Idaho; Louisiana; Massachusetts; Minnesota; Montana; Nebraska; New Jersey; New York; Ohio; Oklahoma; Oregon; Palau; Pennsylvania; South Dakota; Tennessee; Vermont; Virginia; Washington; and Wyoming.

This list is based on the most current information provided by the States. Information on any changes or apparent errors should be provided to the Office of Management and Budget and the State in question. Changes to the list will only be made upon formal notification by the State. Also, this listing is published biannually in the Catalogue of Federal Domestic Assistance. See also the Web site—(http://www.whitehouse.gov/omb/grnts/spoc.httm)

Jurisdictions that participate in the Executive Order process have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a) (2), a SPOC has 60 days from the application deadline to comment on proposed new or competing continuation awards. SPOCs are encouraged to eliminate the submission of routine endorsements as official recommendations. Additionally, SPOCs are requested to clearly differentiate between mere advisory comments and State official recommendations that may trigger the “accommodate or explain” rule. When comments are submitted directly to ACF, they should be addressed to: Department of Health and Human Services, Administration for Children and Families, Office of Grants Management, 370 L'Enfant Promenade SW., 4th Floor, Washington, DC 20447, ATTN: Ms. Daphne Weeden, Grants Officer.

A list of the Single Points of Contact for each State and Territory is included in this announcement.

OMB State Single Point of Contact Listing

Arkansas. Mr. Tracy L. Copeland, Manager, State Clearinghouse Office of Intergovernmental Services, Department of Finance and Administration, 1515 W. 7th St., Room 412, Little Rock, Arkansas 72203, Telephone: (501) 682-1074, FAX: (501) 682-5206.

California. Grants Coordinator, Office of Planning and Research/State Clearinghouse, 1400 Tenth Street, Room 121, Sacramento, California 95814, Telephone: (916) 323-7480, FAX: (916) 323-3018.

Delaware. Francine Booth, State Single Point of Contact, Executive Department, Office of the Budget, 540 S. du Pont Highway, Suite 5, Dover, Delaware 19901, Telephone: (302) 739-3326, FAX: (302) 739-5661.

District of Columbia. Charles Nichols, State Single Point of Contact, Office of Grants Management and Development, 717 14th Street, NW.—Suite 1200, Washington, DC 20005, Telephone: (202) 727-6537, FAX: (202) 727-1617, e-mail: charlesnic@yahoo.com or cnichols-ogmd@dcgov.org.

Illinois. Virginia Bova, State Single Point of Contact, Illinois Department of Commerce and Community Affairs, James R. Thompson Center, 100 West Randolph, Suite 3-400, Chicago, Illinois 60601, Telephone: (312) 814-6028, FAX: (312) 814-1800.

Indiana. Frances Williams, State Budget Agency, 212 State House, Indianapolis, Indiana 46204-2796, Telephone: (317) 232-5619, FAX: (317) 233-3323.

Iowa. Steven R. McCann, Division for Community Assistance, Iowa Department of Economic Development, 200 East Grand Avenue, Des Moines, Iowa 50309, Telephone: (515) 242-4719, FAX: (515) 242-4809.

Kentucky. Kevin J. Goldsmith, Director, John-Mark Hack, Deputy Director, Sandra Brewer, Executive Secretary, Intergovernmental Affairs Office of the Governor, 700 Capitol Avenue, Frankfort, Kentucky 40601, Telephone: (502) 564-2611, FAX: (502) 564-2849.

Maine. Joyce Benson, State Planning Office, 184 State Street, 38 State House Station, Augusta, Maine 04333, Telephone: (207) 287-3261, FAX: (207) 287-6489.

Maryland. Linda C. Janey, JD Manager, Clearinghouse and Plan Review Unit, Maryland Office of Planning, 301 W. Preston Street—Room 1104, Baltimore, Maryland 21201-2305, Telephone: (410) 767-4491, FAX: (410) 767-4480, e-mail: Linda@mail.op.state.md.us.

Michigan. Richard Pfaff, Southeast Michigan Council of Governments, 660 Plaza Drive—Suite 1900, Detroit, Michigan 48226, Telephone: (313) 961-4266, FAX: (313) 961-4869.

Mississippi. Cathy Mallette, Clearinghouse Officer, Department of Finance and Administration, 455 North Lamar Street, Jackson, Mississippi 39202-3087, Telephone: (601) 359-6762, FAX: (601) 359-6764.

Missouri. Lois Pohl/Carol Meyer, Federal Assistance Clearinghouse, Office of Administration, P.O. Box 809, Room 915, Jefferson Building, Jefferson City, Missouri 65102, Telephone: (573) 751-4834, FAX: (573) 522-4395.

Nevada. Heather Elliott, Department of Administration, State Clearinghouse, Capitol Complex, Carson City, Nevada 89710, Telephone: (702) 687-6367, FAX: (702) 687-3983.

New Hampshire. Jeffrey H. Taylor, Director, New Hampshire Office of State Planning, Attn: Intergovernmental Review Process, Mike Blake, Office of State Planning, 2 Beacon Street, Concord, New Hampshire 03301, Telephone: (603) 271-2155, FAX: (603) 271-1728.

New Mexico. Nick Mandell, Local Government Division, Room 201, Bataan Memorial Building, Santa Fe, New Mexico 87503, Telephone: (505) 827-4991, FAX: (505) 827-4948.

North Carolina. Chrys Baggett, Director, North Carolina State Clearinghouse, Office of the Secretary of Administration, 116 West Jones Street—Suite 5106, Raleigh, North Carolina 27603-8003, Telephone: (919) 733-7232, FAX: (919) 733-9571.

North Dakota. Jim Boyd, North Dakota Single Point of Contact, Office of Intergovernmental Assistance, 600 East Boulevard Avenue, Department 105, Bismarck, North Dakota 58505-0170, Telephone: (701) 328-2094, FAX: (701) 328-2308.

Rhode Island. Kevin Nelson, Review Coordinator, Department of Administration, Division of Planning, One Capitol Hill, 4th Floor, Providence, Rhode Island 02908-5870, Telephone: (401) 222-2656, FAX: (401) 222-2083.

South Carolina. Omegia Burgess, State Single Point of Contact, Budget and Control Board, Office of State Budget, 1122 Ladies Street—12th Floor, Columbia, South Carolina 29201, Telephone: (803) 734-0494, FAX: (803) 734-0645.

Texas. Tom Adams, Single Point of Contact, State of Texas Governor's Office of Budget and Planning, Director, Intergovernmental Coordination, P.O. Box 12428, Austin, Texas 78711-2428, Telephone: (512) 463-1771, FAX: (512) 936-2681, e-mail: tadams@governor.state.tx.us.

Utah. Carolyn Wright, Utah State Clearinghouse, Office of Planning and Budget, Room 116, State Capitol, Salt Lake City, Utah 84114, Telephone: (801) 538-1535, FAX: (801) 538-1547.

West Virginia. Judith Dryer, Chief Program Manager, West Virginia Development, Office Building #6, Room 645, State Capitol, Charleston, West Virginia 25305, Telephone: (304) 558-0350, FAX: (304) 558-0362.

Wisconsin. Jeff Smith, Section Chief, State/Federal Relations, Wisconsin Department of Administration, 101 East Wilson Street—6th Floor, P.O. Box 7868, Madison, Wisconsin 53707, Telephone: (608) 266-0267, FAX: (608) 267-6931.

Territories

Guam. Mr. Giovanni T. Sgambelluri, Director, Bureau of Budget and Management Research, Office of the Governor, P.O. Box 2950, Agana, Guam 96910, Telephone: 011-671-472-2285, FAX: 011-671-472-2825.

Puerto Rico. Norma Burgos/Jose E. Caro, Chairwoman/Director, Puerto Rico Planning Board, Federal Proposals Review Office, Minillas Government Center, P.O. Box 41119, San Juan, Puerto Rico 00940-1119, Telephone: (809) 727-4444 or (809) 723-6190, FAX: (809) 724-3270 or (809) 724-3103.

Northern Mariana Islands. Mr. Alvaro A. Santos, Executive Officer, Office of Management and Budget, Office of the Governor, Saipan, MP 96950, Telephone: (670) 664-2256, FAX: (670) 664-2272. Please direct all questions and correspondence about intergovernmental review to: Ms. Jacoba T. Seman, Federal Programs Coordinator, Telephone: (670) 664-2289, FAX: (670) 664-2272.

Virgin Islands. Nellon Bowry, Director, Office of Management and Budget, #41 Norregade Emancipation Garden Station, Second Floor, Saint Thomas, Virgin Islands 00802. Please direct all questions and correspondence about intergovernmental review to: Daisey Millen, Telephone: (809) 774-0750, FAX: (809) 776-0069.

Initial ACF Screening

Each application submitted under this program announcement will undergo a pre-review to determine that: (1) The application was received by the closing date and submitted in accordance with the instructions in this announcement and (2) the applicant is eligible for funding.

Competitive Review

Applications that pass the initial ACF screening will be evaluated and rated by an independent review panel on the basis of specific evaluation criteria. The evaluation criteria are designed to assess the quality of a proposed project, and to determine the likelihood of its success. The evaluation criteria are closely related and are considered as a whole in judging the overall quality of an application. Points are awarded only to applications that are responsive to the evaluation criteria within the context of this program announcement.

Part IV: Application Submission

In order to be considered for a grant under this program announcement, an application must be submitted on the forms supplied and in the manner prescribed by ACF. Application materials including forms and instructions are available from the contact named under the ADDRESSES section in the preamble of this announcement.

Each application should include one signed original and two additional copies.

Each program application narrative portion should not exceed 25 double-spaced pages in a 12-pitch font. Attachments and appendices to the proposal should not exceed 25 pages and should be used only to provide supporting documentation such as maps, administration charts, position descriptions, resumes, and letters of intent for partnership agreements. Please do not include books or video tapes as they are not easily reproduced and are therefore, inaccessible to the reviewers. Each page should be numbered sequentially, including the attachments or appendices. Audit reports are not included in the 25-page limitation of the attachment section.

Application Materials

Applicants for financial assistance under this announcement must file the Standard Form (SF) 424, Application for Federal Assistance; SF 424A, Budget Information—Non-Construction Programs; SF 424B, Assurances—Non-Construction Programs. The forms may be reproduced for use in submitting applications. An application with an original signature and two copies is required.

Application Submission Information

The closing date for submission of applications is 30 days from publication date. Mailed applications received after the closing date will be classified as late. Mailed applications shall be considered as meeting an announced deadline if they are received on or before the deadline date by ACF in time for the independent review at: U.S. Department of Health and Human Services, Administration for Children and Families, Office of Grants Management, Division of Discretionary Grants, 4th Floor, Aerospace Building, 901 D Street, SW., 20447, Attention: Ms. Daphne Weeden, Grants Officer. Applications that may be hand carried to the above address by applicants, applicant couriers, or by other representatives of the applicant shall be considered as meeting an announced deadline if they are received at the above address on or before the deadline date, between the hours of 8 a.m. and 4:30 p.m., e.s.t., Monday through Friday, excluding Federal holidays. The address must appear on the envelope/package containing the application with the note “Attention: Ms. Daphne Weeden.” (Applicants are cautioned that express/overnight mail services do not always deliver as agreed.) ACF will acknowledge receipt of applications by letter.

ACF cannot accommodate transmission of applications by fax or through other electronic media. Therefore, applications transmitted to ACF electronically will not be accepted regardless of date or time of submission and time of receipt.

Late applications: Applications that do not meet the criteria above are considered late applications. ACF shall notify each late applicant that its application will not be considered in the current competition.

Extension of deadlines: ACF may extend application deadlines when circumstances such as acts of God (floods, hurricanes, etc.) occur, or when there are widespread disruptions of mail services. Determinations to extend or waive deadline requirements rest with the Chief Grants Management Officer.

FOR FURTHER INFORMATION CONTACT: Ms. Daphne Weeden, Administration for Children and Families, Office of Grants Management, 370 L'Enfant Promenade SW., 4th Floor, Washington, DC 20447, (202) 401-4577.

Certification, Assurances, and Disclosure Required for Non-Construction Programs

Applicants must provide a certification concerning lobbying. Prior to receiving an award in excess of $100,000, applicants should furnish an executed copy of the lobbying certification (approved by the Office of Management and Budget under control number 0348-0046).

Applicants must sign and return the certification with their application. Applicants must make the appropriate certification of their compliance with the Drug-Free Workplace Act of 1988. By signing and submitting the application, applicants are providing the certification and need not mail back the certification with the application.

Applicants must make appropriate certification that they are not presently debarred, suspended and otherwise ineligible for the award. By signing and submitting the application, applicants are providing the certification and need not mail back the certification with the application.

Applicants must also understand that they will be held accountable for the smoking prohibition included within Public Law 103-227, part C Environment Tobacco Smoke (also known as the Pro-Children's Act of 1994). A copy of the Federal Register notice which implements the smoking prohibition is included with forms. By signing and submitting the application, applicants are providing the certification and need not mail back the certification with the application.

Applicable Administrative Regulations: Applicable DHHS grant administration regulations can be found in 45 CFR part 74 or 92.

Reporting Requirements: Grantees are required to file the Financial Status Report (SF-269) and Program Performance Report on a semi-annual basis. Funds issued under these awards must be accounted for and reported upon separately from all other grant activities. Although ORR does not expect the proposed projects to include evaluation activities, it does expect grantees to maintain adequate records to track and report on project outcomes. The official receipt point for all reports and correspondence is the ORR Grants Officer, Ms. Daphne Weeden, Administration for Children and Families/Office of Grants Management, 370 L'Enfant Promenade SW., 4th Floor, Washington, DC 20447, Telephone: (202) 401-4577.

An original and one copy of each report shall be submitted within 30 days of the end of each reporting period directly to the Grants Officer. The mailing address is: Ms. Daphne Weeden, Administration for Children and Families, Office of Grants Management, 370 L'Enfant Promenade SW., 4th Floor, Washington, DC 20447. A final Financial and Program Report shall be due 90 days after the budget expiration date or termination of grant support.

Dated: July 30, 2003.
Nguyen Van Hanh,
Director, Office of Refugee Resettlement.

[FR Doc. 03-20261 Filed 8-7-03; 8:45 am]

BILLING CODE 4184-01-P